DEPARTMENT OF HEALTH AND HUMAN SERVICES

National Institutes of Health

National Institute of Child Health and Human Development; Notice of Meeting

Pursuant to section 10(a) of the Federal Advisory Committee Act, as amended (5 U.S.C. appendix 2), notice is hereby given of a meeting of the National Children's Study of Environmental Effects on Health Advisory Committee.

The meetings which are being co-sponsored by the Environmental Protection Agency, the National Institute of Environmental Health Sciences, and the Centers for Disease Control and Prevention, will be open to the public, with attendance limited to space available. Individuals who plan to attend and need special assistance, such as sign language interpretation or other reasonable accommodations, should notify the Contact Person listed below in advance of the meeting. To register for the meetings, visit the conference Web site at: http://www.circlesolutions.com/ncs, send an e-mail to ncs@circlesolutions.com, or call 703-902-1339. The National Children's Study Advisory Committee Meeting is open to anyone who indicates an interest and includes representatives of all stakeholders, both inside and outside of government, advocacy groups, industry, academic institutions, state and local governments, and community groups.

Name of Committee: National Children's Study of Environmental Effects of Health Advisory Committee.

Date: December 17-18, 2002.

Time: 1 p.m. to 5 pm.

Registration: December 15, 2002, 4 p.m. to 7 p.m.; December 16, 2002, 7:30 a.m. to 5 p.m., December 17, 2002, 7:30 a.m. to 7 p.m.; December 18, 2002, 7:30 a.m. to 5 p.m.

Agenda: To review activities since the last meeting held in September 2002. Primary objectives are to discuss and review sampling strategies, recruitment prior to conception, life-course timeline proposed by the Health Services and Social Environment Working Groups, prioritization of pilot studies, ethics issues issues in thematic areas and community outreach and communication issues in thematic areas.

Place: Baltimore Marriott Waterfront Hotel, 700 Aliceanna Street, Baltimore, MD 21202.

Contact Person: Peter M. Scheidt, M.D., Medical Officer, Division of Epidemiology, Statistics and Prevention Research, National Institute of Child Health, and Human Development, NIH, 6100 Executive Boulevard, Room 5C01, Bethesda, MD 20892, (301) 451-6421. NCS@mail.nih.gov.

(Catalogue of Federal Domestic Assistance Program Nos. 93.209, Contraception and Infertility Loan Repayment Program; 93.864, Population Research; 93.865, Research for Mothers and Children; 93.929, Center for Medical Rehabilitation Research, National Institutes of Health, HHS)
Dated: November 21, 2002.
LaVerne Y. Stringfield,
Director, Office of Federal Advisory Committee Policy.

[FR Doc. 02-30235 Filed 11-27-02; 8:45 am]

BILLING CODE 4140-01-M